DEPARTMENT OF COMMERCE

International Trade Administration

(A-201-822)

Stainless Steel Sheet and Strip in Coils from Mexico; Extension of Time Limit for Preliminary Results of Antidumping Duty Administrative Review

AGENCY: Import Administration, International Trade Administration, Department of Commerce.

EFFECTIVE DATE: February 20, 2007

FOR FURTHER INFORMATION CONTACT: Maryanne Burke, Deborah Scott or Robert James, AD/CVD Operations, Office 7, Import Administration, International Trade Administration, U.S. Department of Commerce, 14th Street and Constitution Avenue NW, Washington, DC 20230; telephone: (202) 482-5604, (202) 482-2657 or (202) 482-0649, respectively.

SUPPLEMENTARY INFORMATION:

Background

On July 3, 2006, the Department of Commerce (the Department) published a notice of opportunity to request administrative review of the antidumping duty order on, inter alia, stainless steel sheet and strip in coils from Mexico. See Antidumping or Countervailing Duty Order, Finding, or Suspended Investigation; Opportunity to Request Administrative Review, 71 FR 37890 (July 3, 2006). On July 31, 2006, the Department received a timely request from Allegheny Ludlum Corporation, United Auto Workers Local 3303, Zanesville Armco Independent Organization, Inc. and the United Steelworkers (collectively, petitioners) to conduct an administrative review of the antidumping duty order on stainless steel sheet and strip in coils from Mexico. Also on July 31, 2006, the Department received a timely request from the respondent in this review, ThyssenKrupp Mexinox S.A. de C.V. (Mexinox S.A.) and Mexinox USA, Inc. (Mexinox USA) (collectively, Mexinox) for revocation of the antidumping order on stainless steel sheet and strip in coils from Mexico. On August 30, 2006, the Department published a notice of initiation of this administrative review, covering the period July 1, 2005, to June 30, 2006. See Initiation of Antidumping and Countervailing Duty Administrative Reviews and Requests for Revocation in Part, 71 FR 51573 (August 30, 2006). The preliminary results are currently due no later than April 2, 2007.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act and 19 CFR 351.213(h)(2) allow the Department to extend the time limit for the preliminary results to a maximum of 365 days after the last day of the anniversary month of an order for which a review is requested.

The Department has determined it is not practicable to complete this review within the statutory time limit because further analysis is needed with respect to Mexinox's affiliated party transactions and its cost of production data used in the margin calculation programs. We require additional information from Mexinox in order to complete our analysis and will not have time to analyze this information prior to the current deadline for the preliminary results. Accordingly, the Department is extending the time limit for completion of the preliminary results of this administrative review until no later than July 31, 2007, which is 365 days from the last day of the anniversary month. We intend to issue the final results no later than 120 days after publication of the preliminary results notice.

This extension is issued and published in accordance with sections 751(a)(3)(A) and 777(i) of the Act.

Dated: February 13, 2007.
Stephen J. Claeys,
Deputy Assistant Secretary for Import Administration.

[FR Doc. E7-2835 Filed 2-19-07; 8:45 am]

BILLING CODE 3510-DS-S